DEPARTMENT OF HEALTH AND HUMAN SERVICES

Food and Drug Administration

21 CFR Part 500

[Docket No. FDA-2011-N-0003]

Animal Drugs, Feeds, and Related Products; N-Methyl-2-Pyrrolidone; Correction

AGENCY: Food and Drug Administration, HHS.

ACTION: Final rule; correcting amendment.

SUMMARY: The Food and Drug Administration (FDA) published a document in the Federal Register of November 25, 2011 (76 FR 72617), codifying a method of detection for residues of n-methyl-2-pyrrolidone in edible tissues of cattle. That document contained a universal resource locator (URL) linking to the Agency's Web site that did not reflect the most recent URL.

DATES: This correction is effective February 17, 2012.

FOR FURTHER INFORMATION CONTACT: George K. Haibel, Center for Veterinary Medicine (HFV-6), Food and Drug Administration, 7519 Standish Pl., Rockville, MD 20855, 240-276-9019, george.haibel@fda.hhs.gov.

SUPPLEMENTARY INFORMATION: In the Federal Register of November 25, 2011 (76 FR 72617), FDA issued a final rule codifying a method of detection for residues of n-methyl-2-pyrrolidone in edible tissues of cattle. That document contained a universal resource locator (URL) linking to the Agency's Web site that did not reflect the most recent URL. This document corrects the URL.

List of Subjects in 21 CFR Part 500

Animal drugs, Animal feeds, Cancer, Labeling, Packaging and containers, Polychlorinated biphenyls (PCBs), Incorporation by reference.

Therefore, under the Federal Food, Drug, and Cosmetic Act and under authority delegated to the Commissioner of Food and Drugs and redelegated to the Center for Veterinary Medicine, 21 CFR part 500 is amended as follows:

PART 500—GENERAL

1. The authority citation for 21 CFR part 500 continues to read as follows:

Authority: 21 U.S.C. 321, 331, 342, 343, 348, 351, 352, 353, 360b, 371.

2. Section 500.1410 is amended in paragraph (a) by revising the third sentence to read as follows:

§ 500.1410 N-methyl-2-pyrrolidone.

(a) * * * You may obtain a copy of the method from the Communications Staff (HFV-12), Center for Veterinary Medicine, Food and Drug Administration, 7519 Standish Pl., Rockville, MD 20855, 240-276-9120; or go to http://www.fda.gov/AboutFDA/CentersOffices/OfficeofFoods/CVM/CVMFOIAElectronicReadingRoom/default.htm. * * *

* * * * *

Dated: February 13, 2012.
William T. Flynn,
Acting Director, Center for Veterinary Medicine.

[FR Doc. 2012-3747 Filed 2-16-12; 8:45 am]

BILLING CODE 4160-01-P